FEDERAL DEPOSIT INSURANCE CORPORATION

Notice of Sunshine Act Meeting Held With Less Than Seven Days Advance Notice

TIME AND DATE: 10:02 a.m. on Tuesday, June 15, 2021.

PLACE: The meeting was held via video conference on the internet and was webcast to the public.

MATTERS TO BE CONSIDERED: Pursuant to the provisions of the Government in the Sunshine Act, notice is hereby given that the Federal Deposit Insurance Corporation's Board of Directors met in open session at 10:02 a.m. on Tuesday, June 15, 2021, to consider the following matters:

Summary Agenda

Disposition of Minutes of a Board of Directors' Meeting Previously Distributed.

Memorandum and resolution re: Final Policy Statement regarding Minority Depository Institutions.

Memorandum and resolution re: Notice of Proposed Rulemaking on Real Estate Lending Standards.

Report of actions taken pursuant to authority delegated by the Board of Directors.

Discussion Agenda

Briefing: Restoration Plan Semiannual Update.

In calling the meeting, the Board determined, on motion of Director Martin J. Gruenberg, seconded by Director David Uejio (Acting Director, Consumer Financial Protection Bureau), concurred in by Director Michael J. Hsu (Acting Comptroller of the Currency), and Chairman Jelena McWilliams, that Corporation business required its consideration of the matters on less than seven days' notice to the public; and that no earlier notice of the meeting than that previously provided on June 10, 2021, was practicable.

Dated this the 15th day of June, 2021.
Federal Deposit Insurance Corporation.
James P. Sheesley,
Assistant Executive Secretary.

[FR Doc. 2021-13446 Filed 6-21-21; 4:15 pm]

BILLING CODE 6714-01-P